DEPARTMENT OF COMMERCE

National Institute of Standards and Technology

National Construction Safety Team Advisory Committee Meeting

AGENCY: National Institute of Standards and Technology, United States Department of Commerce.

ACTION: Notice of public meeting.

SUMMARY: The Director of the National Institute of Standards and Technology announces that the National Construction Safety Team Federal Advisory Committee will meet on December 2-3, 2003.

DATES: The meeting will convene on December 2, 2003, at 8 a.m. and will adjourn at 2 p.m. on December 3, 2003. Members of the public wishing to attend the meeting must notify Stephen Cauffman by close of business on Friday, November 28, 2003, per instructions under the SUPPLEMENTARY INFORMATION section of this notice.

ADDRESSES: The meeting will be held in Lecture Room A, Administration Building, at NIST, Gaithersburg, Maryland. Please note admittance instructions under SUPPLEMENTARY INFORMATION section of this notice.

FOR FURTHER INFORMATION CONTACT: Stephen Cauffman, National Construction Safety Team Advisory Committee, National Institute of Standards and Technology, 100 Bureau Drive, MS 8611, Gaithersburg, Maryland 20899-8611, telephone (301) 975-6051, fax (301) 975-6122, or via e-mail at stephen.cauffman@nist.gov.

SUPPLEMENTARY INFORMATION: In accordance with the requirements of the Federal Advisory Committee Act, 5 U.S.C. App. 2, notice is hereby given that the National Construction Safety Team (NCST) Advisory Committee (Committee), National Institute of Standards and Technology (NIST), will meet Tuesday, December 2, 2003, from 8 a.m. to 6 p.m. and Wednesday, December 3, 2003, from 8 a.m. to 2 p.m. at NIST headquarters in Gaithersburg, Maryland.

The Committee was established pursuant to Section 11 of the National Construction Safety Team Act (15 U.S.C. 7310). The Committee is composed of ten members appointed by the Director of NIST who were selected for their technical expertise and experience, established records of distinguished professional service, and their knowledge of issues affecting teams established under the NCST Act. The Committee will advise the Director of NIST on carrying out investigations of building failures conducted under the authorities of the NCST Act that became law in October 2002 and will review the procedures developed to implement the NCST Act and reports issued under section 8 of the NCST Act. Background information on the NCST Act and information on the NCST Advisory Committee is available at http://www.nist.gov/ncst. The purpose of this meeting is to discuss the requirements of the NCST Act, how it is being implemented by NIST, and to provide an update on the two investigations that NIST is currently conducting under the Act: the World Trade Center (WTC) Investigation and the Rhode Island Nightclub Investigation. The agenda will also include a discussion on the NCST Advisory Committee Annual Report to Congress. The agenda may change to accommodate Committee business. The final agenda will be posted on the Internet at http://www.nist.gov/ncst.

Individuals and representatives of organizations who would like to offer comments and suggestions related to the Committee's affairs, NCST Act implementation, the WTC Investigation, or the Rhode Island Investigation are invited to request a place on the agenda. On December 2, 2003, approximately one hour will be reserved for public comments, and speaking times will be assigned on a first-come, first-served basis. The amount of time per speaker will be determined by the number of requests received, but is likely to be 5 minutes each. Questions from the public will not be considered during this period. Speakers who wish to expand upon their oral statements, those who had wished to speak but could not be accommodated on the agenda, and those who were unable to attend in person are invited to submit written statements to the National Construction Safety Team Advisory Committee, National Institute of Standards and Technology, 100 Bureau Drive, MS 8611, Gaithersburg, Maryland 20899-8611, via fax at (301) 975-6122, or electronically via e-mail to ncstac@nist.gov.

All visitors to the NIST site are required to pre-register to be admitted. Anyone wishing to attend this meeting must register by close of business Friday, November 28, 2003, in order to attend. Please submit your name, time of arrival, e-mail address and phone number to Stephen Cauffman and he will provide you with instructions for admittance. Non-U.S. citizens must also submit their country of citizenship, title, employer/sponsor, and address. Mr. Cauffman's e-mail address is stephen.cauffman@nist.gov and his phone number is (301) 975-6051.

Dated: November 10, 2003.
Arden L. Bement, Jr.,
Director.

[FR Doc. 03-28705 Filed 11-17-03; 8:45 am]

BILLING CODE 3510-13-P